DEPARTMENT OF TRANSPORTATION

Federal Highway Administration

Notice To Rescind a Notice of Intent To Prepare an Environmental Impact Statement for Transportation Improvements on I-84 in Fairfield County and New Haven County, CT

AGENCY: Federal Highway Administration (FHWA), DOT.

ACTION: Notice to Rescind a Notice of Intent.

SUMMARY: The FHWA is issuing this notice to advise the public that, effective immediately, we are rescinding the Notice of Intent (NOI) to prepare an Environmental Impact Statement (EIS) for proposed transportation improvements along the I-84 Corridor in Fairfield County and New Haven County, CT. The NOI was published in the Federal Register (FR) on April 11, 2005 (FR Vol. 70, No. 68, p. 18454; FR Doc 05-7232).

FOR FURTHER INFORMATION CONTACT: Eloise Powell, Team Leader for Planning, Environment, and Research, FHWA Connecticut Division, 628-2 Hebron Avenue, Suite 303, Glastonbury, CT 06033, Telephone: (860) 494-7566, Email: eloise.powell@dot.gov.

SUPPLEMENTARY INFORMATION: The FHWA, in cooperation with the Connecticut Department of Transportation (CTDOT), issued a NOI on April 11, 2005, to prepare an EIS for proposed transportation improvements along the I-84 Corridor in Fairfield County and New Haven County, CT, for a distance of approximately 32 miles. The purposes of the proposed improvements were to improve safety and provide increased capacity to meet future traffic demands. Due to the re-prioritization of major transportation projects in Connecticut and funding constraints, the CTDOT is no longer pursuing this project. Therefore, the NOI for this project is rescinded. Studies are being done to determine specific safety and capacity improvements along the I-84 corridor, and any future transportation improvements will progress under a separate environmental review process, in accordance with all applicable laws and regulations.

Dated: April 23, 2014.
Amy Jackson-Grove,
FHWA Connecticut Division Administrator, Glastonbury, Connecticut.

[FR Doc. 2014-09710 Filed 4-28-14; 8:45 am]

BILLING CODE 4910-22-P